DEPARTMENT OF THE TREASURY

United States Mint

Senior Executive Service; Combined Performance Review Board (PRB)

AGENCY: United States Mint (USM), Treasury.

ACTION: Notice of members of Combined Performance Review Board.

SUMMARY: This notice announces the appointment of the members of the Combined Performance Review Board (PRB) for the United States Mint (USM), the Fiscal Service (FS), the Financial Crimes Enforcement Network (FinCEN), the Bureau of Engraving and Printing (BEP), and the Alcohol and Tobacco Tax and Trade Bureau (TTB). The Combined PRB reviews the performance appraisals of career senior executives below the level of the bureau head who are not assigned to the immediate Office of the Director of each bureau represented by the Combined PRB. The Combined PRB makes recommendations regarding proposed performance appraisals, ratings, bonuses, pay adjustments, and other appropriate personnel actions. Membership is effective on September 30, 2013.

Composition of the USM PRB, including names and titles, is as follows:

Primary Members

Beverly Ortega Babers, Chief Administrative Officer, USM

Anita Shandor, Deputy Commissioner, Office of Finance and Administration, FS

Peter S. Alvarado, Associate Director, Management Programs Division, FinCEN

Leonard R. Olijar, Deputy Director, BEP

Mary G. Ryan, Deputy Administrator, TTB

Alternate Members

Richard A. Peterson, Deputy Director, USM

Wanda Rogers, Deputy Commissioner, Financial Services and Operations, FS

Amy Taylor, Associate Director, Technology Solutions and Services Division, FinCEN

Will P. Levy III, Associate Director, Management, BEP

Cheri Mitchell, Assistant Administrator (Management)/Chief Financial Officer, TTB

FOR FURTHER INFORMATION CONTACT: Annie Brown, Associate Director, Workforce Solutions Department; 801 9th Street NW., Washington, DC 20220; or call 202-354-7343.

Authority: 5 U.S.C. 4314(c)(4).

Dated: September 17, 2013.
Richard A. Peterson,
Deputy Director, United States Mint.

[FR Doc. 2013-23024 Filed 9-20-13; 8:45 am]

BILLING CODE P